DEPARTMENT OF TRANSPORTATION

Surface Transportation Board

[Ex Parte No. 333]

Sunshine Act Meeting

Time and Date: 10 a.m., August 11, 2004.

Place: The Board's Hearing Room, Surface Transportation Board, 1925 K Street, NW., Washington, DC 20423.

Status: The Board will meet to discuss among themselves the following agenda items. Although the conference is open for public observation, no public participation is permitted.

Matters to be Considered:

STB Docket No. 42084, CF Industries, Inc. v. Kaneb Pipe Line Partners, L.P. and Kaneb Pipe Line Operating Partnership, L.P.

STB Docket No. 42060, North America Freight Car Association—Protest and Petition for Investigation—Tariff Publications of The Burlington Northern and Santa Fe Railway Company.

Embraced case:

STB Docket No. 42060 (Sub-No. 1), North America Freight Car Association v. The Burlington Northern and Santa Fe Railway Company.

STB Finance Docket No. 34425, City of Lincoln—Petition for Declaratory Order.

STB Finance Docket No. 34444, Town of Milford, MA—Petition for Declaratory Order.

STB Ex Parte No. 552 (Sub-No. 8), Railroad Revenue Adequacy—2003 Determination.

Docket No. AB-167 (Sub-No 1094)A, Chelsea Property Owners—Abandonment—Portion of the Consolidated Rail Corporation's West 30th Street Secondary Track in New York, NY.

STB Docket No. AB-855 (Sub-No. 1X), A & R Line, Inc.—Abandonment Exemption—in Cass and Pulaski Counties, IN.

Contact Person for More Information: A. Dennis Watson, Office of Congressional and Public Services, telephone: (202) 565-1596, FIRS: 1-800-877-8339.

Dated: August 4, 2004.
Vernon A. Williams,
Secretary.

[FR Doc. 04-18149 Filed 8-4-04; 1:32 pm]

BILLING CODE 4915-01-P